DEPARTMENT OF DEFENSE

Department of the Army; Corps of Engineers

Intent To Prepare a Regional Environmental Impact Statement for Surface Coal and Lignite Mining in the State of Texas

AGENCY: Department of the Army, U.S. Army Corps of Engineers, DoD.

ACTION: Notice of intent.

SUMMARY: The U.S. Army Corps of Engineers (USACE) is preparing a Regional Environmental Impact Statement (REIS) to analyze the direct, indirect, and cumulative effects associated with a decision to develop and assess data and information with waters of the United States and other relevant resources that may be potentially impacted by future surface coal and lignite mine expansions in the state of Texas within the Fort Worth District's area of responsibility. These coal and lignite mining activities may eventually require authorization from the USACE under Section 404 of the Clean Water Act and Section 10 of the Rivers and Harbors Act of 1899, as well as other federal and state permits and approvals.

DATES: Public scoping meetings for the REIS will be held on:

1. Tuesday, December 3, 2013, 4 p.m.-7 p.m., Uvalde, Texas.

2. Wednesday, December 4, 2013, 4 p.m.-7 p.m., Temple, Texas.

3. Thursday, December 5, 2013, 4 p.m.-7 p.m., Tyler, Texas.

ADDRESSES: The scoping meeting locations are:

1. Tuesday, December 3, 2013, at the Uvalde County Fairplex-Event Center, 122 Veterans Lane, Uvalde, Texas 78801.

2. Wednesday, December 4, 2013, at the Railroad and Heritage Museum, 315 W. Avenue B, Temple, Texas 76501.

3. Thursday, December 5, 2013, at the Tyler Rose Garden Center, 420 South Rose Park Drive, Tyler, Texas 75702.

FOR FURTHER INFORMATION CONTACT: Questions and comments regarding the proposed action and REIS should be addressed to Mr. Darvin Messer, Project Manager, U.S. Army Corps of Engineers, Fort Worth District, P.O. Box 17300, 819 Taylor Street, Fort Worth, Texas 76102; or Darvin.Messer@usace.army.mil.

SUPPLEMENTARY INFORMATION: The USACE will be conducting public scoping meetings at three locations (see DATES and ADDRESSES) to describe the Project, preliminary alternatives, the National Environmental Policy Act (NEPA) compliance process, and to solicit input on the issues and alternatives to be evaluated and other related matters. Written comments for scoping will be accepted until December 20, 2013. The USACE has prepared a scoping announcement to familiarize agencies, the public and interested organizations with the proposed Action and potential environmental issues that may be involved. The scoping announcement describes the target resources to be assessed, the proposed areas of assessment, and the mines that may utilize the information developed through this effort. Copies of the scoping announcement will be available at the public scoping meetings or can be requested by mail.

Surface coal and lignite mining projects in the USACE Fort Worth's area of responsibility typically conduct work that results in impacts to waters of the U.S. Such work requires authorization under Section 404 of the Clean Water Act, and for projects affecting navigable waters, authorization under Section 10 of the Rivers and Harbors Act of 1899. These programs are administered by the USACE. The anticipated number of future permit applications requiring the USACE compliance with NEPA, along with agency resource constraints, could result in lengthy review times. Historic permit evaluations associated with mine expansions have required substantial time periods. These timeframes have been influenced in part by the need to develop resource information, undertake data gathering efforts, as well as coordination with various agencies and their permit review processes. The USACE also needs to ensure it can adapt and efficiently respond to multiple concurrent requests for permits that may occur in the future.

The USACE is undertaking a REIS to streamline the NEPA aspect of the Section 404/10 permitting process, as well as to develop information, data, and analyses to be used in 404(b)(1) guidelines and public interest review analyses for future coal and lignite mine expansions in Texas subject to permitting by the USACE.

The REIS is intended to provide an environmental evaluation focusing on the potential direct, indirect, and cumulative aquatic resource impacts, in addition to other relevant environmental and human resources, that could be affected by future surface coal and lignite mining within defined geographic regions in Texas. The REIS would facilitate future tiering or supplementation of the NEPA analysis in the REIS in the evaluation of future project-specific Section 404/10 permit applications. It also is intended to provide a cohesive framework for stream mitigation, establishment of sound performance metrics, and enhance project monitoring efforts associated with these types of activities. The REIS is intended to avoid duplication and provide efficiency and effectiveness with future decisions.

The REIS will be prepared according to the USACE's procedures for implementing the NEPA, as amended, 42 U.S.C. 4332(2)(c), and consistent with the USACE's policy to facilitate public understanding and review of agency proposals. As part of the REIS process, a full range of reasonable alternatives, including the proposed Action and no action, will be evaluated. The use of a third party contract arrangement will be utilized to develop the REIS funded by the Texas Mining and Reclamation Association.

The USACE has invited the U.S. Environmental Protection Agency, U.S. Fish and Wildlife Service, Office of Surface Mining, Natural Resources Conservation Service, Railroad Commission of Texas, Texas Commission on Environmental Quality, Texas Parks and Wildlife Department, Texas Historical Commission and the Louisiana Department of Wildlife and Fisheries to be cooperating agencies in the formulation of the REIS.

Charles H. Klinge,
Colonel, U.S. Army, Commanding.

[FR Doc. 2013-24869 Filed 10-23-13; 8:45 am]

BILLING CODE 3720-58-P